DEPARTMENT OF LABOR

Employment and Training Administration

[TA-W-60,564]

Lee Middleton Original Dolls, Inc. Belpre, OH; Notice of Termination Of Investigation

Pursuant to Section 221 of the Trade Act of 1974, as amended, an investigation was initiated on December 8, 2006, in response to a petition filed on behalf of workers of Lee Middleton Original Dolls, Inc., Belpre, Ohio.

The petition has been deemed invalid. The petition contained petitioner information for three workers but was not signed by all three workers.

Consequently, the investigation has been terminated.

Signed at Washington, DC, this 13th day of December 2006.
Linda G. Poole,
Certifying Officer, Division of Trade Adjustment Assistance.

[FR Doc. E6-21796 Filed 12-20-06; 8:45 am]

BILLING CODE 4510-30-P